SMALL BUSINESS ADMINISTRATION

[Disaster Declaration #12398 and #12399]

U.S. Virgin Islands Disaster # VI-00007

AGENCY: U.S. Small Business Administration.

ACTION: Notice.

SUMMARY: This is a Notice of the Presidential declaration of a major disaster for public assistance only for the Territory of the U.S. Virgin Islands (FEMA-1949-DR), dated 11/24/2010.

Incident: Severe storms, flooding, rockslides, and mudslides associated with Tropical Storm Tomas.

Incident Period: 11/08/2010 through 11/12/2010.

Effective Date: 11/24/2010.

Physical Loan Application Deadline Date: 01/24/2011.

Economic Injury (EIDL) Loan Application Deadline Date: 08/24/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 11/24/2010, private non-profit organizations that provide essential services of governmental nature may file disaster loan applications at the address listed above or other locally announced locations.

The following areas have been determined to be adversely affected by the disaster:

Primary Area: The Island of Saint Croix.

The Interest Rates are:

| Percent
For Physical Damage:
Non-Profit Organizations with Credit Available Elsewhere | 3.250
Non-Profit Organizations without Credit Available Elsewhere | 3.000
For Economic Injury:
Non-Profit Organizations without Credit Available Elsewhere | 3.000

The number assigned to this disaster for physical damage is 12398B and for economic injury is 12399B.

(Catalog of Federal Domestic Assistance Numbers 59002 and 59008)

Roger B. Garland,
Acting Associate Administrator for Disaster Assistance.

[FR Doc. 2010-30411 Filed 12-3-10; 8:45 am]

BILLING CODE 8025-01-P